DEPARTMENT OF THE INTERIOR

Fish and Wildlife Service

Sporting Conservation Council

AGENCY: Fish and Wildlife Service, Interior.

ACTION: Notice of meeting.

SUMMARY: This notice announces a meeting of the Sporting Conservation Council (Council). The meeting agenda includes an update on implementation of the Executive Order on hunting heritage and wildlife conservation and plans for a 2008 Policy Session regarding the North American Conservation Model; State/Federal/Tribal Wildlife Management; Habitat Conservation and Management; Funding for Wildlife Conservation; and Perpetuating Hunter Traditions. This meeting is open to the public, and will include a session for the public to comment.

DATES: We will hold the meeting on April 8, 2008, from 2 p.m. to 4:30 p.m. From 2:30 p.m. to 3 p.m. on April 8, 2008, we will host a public comment session.

ADDRESSES: On April 8, 2008, the meeting will be held in the Majestic Ballroom on the Majestic Level of the Sheraton Denver Hotel at 1550 Court Place, Denver, CO 80202.

FOR FURTHER INFORMATION CONTACT: Phyllis T. Seitts, 9828 North 31st Avenue, Phoenix, AZ 85051-2517; 602-906-5603 (phone); or Twinkle_Thompson-Seitts@blm.gov (e-mail).

SUPPLEMENTARY INFORMATION: The Secretary of the Interior established the Council in February 2006 (71 FR 11220, March 6, 2006). The Council's mission is to provide advice and guidance to the Federal Government through the Department of the Interior on how to increase public awareness of: (1) The importance of wildlife resources, (2) the social and economic benefits of recreational hunting, and (3) wildlife conservation efforts that benefit recreational hunting and wildlife resources.

The Secretary of the Interior and the Secretary of Agriculture signed an amended charter for the Council in June 2006 and July 2006, respectively. The revised charter states that the Council will provide advice and guidance to the Federal Government through the Department of the Interior and the Department of Agriculture.

The Council will hold a meeting on the date shown in the DATES section at the address shown in the ADDRESSES section. The meeting will include a session for the public to comment.

Dated: March 13, 2008.
Phyllis T. Seitts,
Designated Federal Officer, Sporting Conservation Council.

[FR Doc. E8-5637 Filed 3-19-08; 8:45 am]

BILLING CODE 4310-55-P